FEDERAL COMMUNICATIONS COMMISSION

47 CFR Part 73

[DA 02-1389; MM Docket No.01-133; RM-10143 & RM-10150]

Radio Broadcasting Services; Mason, TX

AGENCY: Federal Communications Commission.

ACTION: Final rule.

SUMMARY: The Notice of Proposed Rule Making in this proceeding considered a petition filed by Charles Crawford requesting the allotment of Channel 249C3 at Mason, Texas and a petition filed by Katherine Pyeatt requesting the allotment of Channel 269C3 at Mason, Texas. See 66 FR 35768, July 9, 2001. In response to the proposal filed by Katherine Pyeatt, this document allots Channel 269C3 at Mason, Texas, at coordinates 30-45-00 and 99-10-41. There is a site restriction 5.7 kilometers (3.6 miles) east of the community. Mexican concurrence has been requested for this allotment but notification has not been received. Therefore, operation with the facilities specified for Mason herein is subject to modification, suspension, or termination without right to hearing, if found by the Commission to be necessary in order to conform to the 1992 USA-Mexico FM Broadcast Agreement or if specifically objected to by Mexico. Due to a lapse in the Commission's data base which failed to disclose a short spacing with a proposal to allot Channel 249C1 at Converse, Texas, in MM Docket 00-148, we will dismiss the proposal to allot Channel 249C3 at Mason, Texas. With this action, this proceeding is terminated. A filing window for Channel 269C3 at Mason will not be opened at this time. Instead, the issue of opening this allotment for auction will be addressed by the Commission in a subsequent order.

DATES: Effective July 29, 2002.

FOR FURTHER INFORMATION CONTACT: Kathleen Scheuerle, Media Bureau, (202) 418-2180.

SUPPLEMENTARY INFORMATION: This is a summary of the Commission's Report and Order, MM Docket No. 01-133, adopted June 5, 2002, and released June 14, 2002. The full text of this Commission decision is available for public inspection and copying during regular business hours in the FCC Reference Information Center, Portals II, 445 12th Street, SW, Room CY-A257, Washington, DC, 20554. The complete text of this decision may also be purchased from the Commission's duplicating contractor, Qualex International, Portals II, 445 12th Street, SW, Room CY-B402, Washington, DC, 20554, telephone 202-863-2893, facsimile 202-863-2898, or via e-mail qualexint@aol.com.

List of Subjects in 47 CFR Part 73

Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Texas, is amended by adding Channel 269C3 at Mason.

Federal Communications Commission.
John A. Karousos,
Assistant Chief, Audio Division, Office of Broadcast License Policy, Media Bureau.

[FR Doc. 02-15672 Filed 6-20-02; 8:45 am]

BILLING CODE 6712-01-P